DEPARTMENT OF ENERGY

Federal Energy Regulatory Commission

[Docket No. CP02-430-000]

Saltville Gas Storage Company L.L.C.; Notice of Application for a Limited Blanket Certificate for Gas Storage and Related Transportation

September 13, 2002.

Take notice that on August 23, 2002, Saltville Gas Storage Company L.L.C. (Saltville), a limited liability company with its principal place of business at 1096 Old Berry Drive, Abingdon, Virginia 24210, filed in Docket No. CP02-430-000 an application pursuant to section 7c of the Natural Gas Act, as amended, and Section 284.224 of the Commission's Rules and Regulations thereunder, for a limited jurisdiction blanket certificate authorizing it to engage in gas storage and related transportation activities.

Saltville states it is a Hinshaw company that is exempt from the Commission's general jurisdiction under section 1(c) of the Natural Gas Act. Saltville explains that it plans to develop natural gas storage caverns in underground salt formations in Smyth and Washington Counties, Virginia, and build seven miles of 24-inch diameter pipeline, pursuant to orders issued by the Commonwealth of Virginia State Corporation Commission (VSCC). The project will consist of four storage caverns with a total working gas capacity of 6.216 Bcf. Saltville requests a limited jurisdictional blanket certificate pursuant to Section 284.224 of the Commission's regulations authorizing it to provide certain non-exempt interstate services. Saltville proposes to charge VSCC approved rates for FERC jurisdictional service.

Any person desiring to be heard or to make any protest with reference to said application should on or before October 4, 2002, file with the Federal Energy Regulatory Commission, Washington, DC 20426, a petition to intervene or a protest in accordance with the requirements of the Commission's Rules of Practice and Procedure (Rules 210, 211 or 214) and the Regulations under the Natural Gas Act (18 CFR 157.10). All protests filed with the Commission will be considered by it in determining the appropriate action to be taken, but will not serve to make the protestants parties to the proceeding. Any person wishing to become a party to the proceeding or to participate as a party in any hearing therein must file a petition to intervene in accordance with the Commission Rules. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Take further notice that, pursuant to the authority contained in and subject to the jurisdiction conferred upon the Federal Energy Regulatory Commission by sections 7 and 15 of the Natural Gas Act, as amended, and the Commission's Rules of Practice and Procedure, a hearing will be held without further notice before the Commission on this application if no petition to intervene is filed within the time required herein, if the Commission on its own review of the matter finds that the certificate is required by the public convenience and necessity. If a petition for leave to intervene is timely filed, or if the Commission on its own motion believes that an oral hearing is required, further notice of such hearing will be duly given.

Under the procedure herein provided for, unless otherwise advised, it will be unnecessary for Applicant to appear or be represented at hearing.

Magalie R. Salas,
Secretary.

[FR Doc. 02-23862 Filed 9-19-02; 8:45 am]

BILLING CODE 6717-01-P